DEPARTMENT OF ENERGY

Federal Energy Regulatory Commission

[Project No. 5737-032]

Santa Clara Valley Water District; Notice of Scoping Meetings, Environmental Site Review, and Soliciting Scoping Comments

On February 20, 2024, and supplemented on May 20, May 28, July 2, and July 3, 2024, Santa Clara Valley Water District (applicant) filed an application to retrofit the dam and to surrender the project exemption for the Anderson Dam Hydroelectric Project No. 5737. The staff of the Federal Energy Regulatory Commission (FERC or Commission) will prepare a document in accordance with the National Environmental Policy Act (NEPA) that will discuss the environmental impacts of the proposed dam retrofit and surrender of the project exemption for the Anderson Dam Hydroelectric Project located on Coyote Creek, in Santa Clara County, California (NEPA document). The Commission will use this NEPA document in its decision-making process to identify potential adverse and beneficial impacts of the proposed project surrender and reasonable alternatives.

This notice initiates the start of a scoping process the Commission will use to gather input from the public and interested agencies about issues regarding the project. As part of the NEPA review process, the Commission takes into account concerns the public may have about proposals and the environmental impacts that could result from its action. This process is referred to as “scoping.” The main goal of the scoping process is to focus the analysis in the NEPA document on the important environmental issues. Additional information about the Commission's NEPA process is described below in the NEPA Process section of this notice.

By this notice, the Commission staff requests public comments on the scope of issues to address in the NEPA document. Specifically, we request comments on potential alternatives and impacts, as well as identification of any relevant information, studies, or analyses of any kind concerning impacts affecting the quality of the human environment. To ensure that your comments are timely and properly recorded, please submit your comments within 60 days of this scoping notice, i.e., by October 21, 2024.¹ Comments may be submitted in written or oral form. Further details on how to submit comments are provided in the Public Participation section of this notice.

¹ The Commission's Rules of Practice and Procedure provide that if a filing deadline falls on a Saturday, Sunday, holiday, or other day when the Commission is closed for business, the filing deadline does not end until the close of business on the next business day. 18 CFR 385.2007(a)(2). Because the 60-day filing deadline falls on a Sunday (i.e., October 20, 2024), the filing deadline is extended until the close of business on Monday, October 21, 2024.

Public Participation

There are four methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to FERC Online. Using eComment is an easy method for submitting brief, text-only comments on a project;

(2) You can file your comments electronically by using the eFiling feature, which is located on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”; or

(3) You can file a paper copy of your comments by mailing them to the Commission. Be sure to reference the project docket number (Project No. 5737-032) on your letter. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852.

(4) SCOPING SESSIONS:

Commission staff will hold two public scoping meetings to receive input on the scope of the environmental issues that should be analyzed in the NEPA document. All interested individuals, resource agencies, Native American Tribes, and NGOs are invited to attend one or both of the meetings to provide comments for the public record. The times and locations of these meetings are as follows:

Evening Scoping Meeting

DATE: Wednesday, September 18, 2024

TIME: 6:30 p.m.-8:30 p.m. Pacific Time (PT)

PLACE: Hiram Morgan Hill Room, Community and Cultural Center

ADDRESS: 17000 Monterey Road, Morgan Hill, CA 95037

Daytime Scoping Meeting

DATE: Thursday, September 19, 2024

TIME: 9:00 a.m.-11:00 a.m. (PT)

PLACE: El Toro Room, Community and Cultural Center

ADDRESS: 17000 Monterey Road, Morgan Hill, CA 95037

The meetings will be recorded by a stenographer and become part of the formal record of the Commission proceeding on the project. Individuals, NGOs, Native American Tribes, and agencies with environmental expertise and concerns are encouraged to attend the meeting and to assist the staff in defining and clarifying the issues to be addressed in the NEPA document.

Additionally, the Commission offers a free service called eSubscription which makes it easy to stay informed of all issuances and submittals regarding the dockets/projects to which you subscribe. These instant email notifications are the fastest way to receive notification and provide a link to the document files which can reduce the amount of time you spend researching proceedings. Go to https://www.ferc.gov/ferc-online/overview to register for eSubscription.

Site Visit

DATE: Tuesday September 17, 2024

TIME: 8:30 a.m. (PT)

PLACE: Boarding of buses at the parking lot of the Morgan Hill Community Center, 17000 Monterey Road, Morgan Hill, CA 95037

Commission staff will hold a limited site visit with Valley Water covering Anderson Dam Seismic Retrofit Project, Coyote Percolation Dam, and Ogier Ponds on September 17, 2024. Due to active construction at Anderson Dam and the downstream Coyote Percolation Dam, the site visit will be limited to publicly accessible areas only. Interested individuals, agencies, Tribes, and NGOs are invited to attend and must register in advance with Valley Water. Space may be limited, therefore, interested participants must confirm their planned participation by September 9, 2024, by contacting Jiana Escobar at Valley Water via phone, 408-630-2266 or email, anderson_ferc@valleywater.org. All confirmed site visit participants should wear closed-toe shoes or boots. Boarding of buses for confirmed participants will start at 8:30 a.m. at the Morgan Hill Community Center parking lot located at 17000 Monterey Road, Morgan Hill, CA 95037. Buses will return to the Community Center at approximately 11:30 a.m.

Summary of the Proposed Surrender

On February 20, 2024, as supplemented on May 20, May 28, and July 2, and July 3, 2024, Valley Water filed an application to retrofit the Anderson Dam and to surrender the project exemption for the Anderson Dam Hydroelectric Project, located on Coyote Creek in Santa Clara County, California. The project does not occupy federal lands.

The proposed action includes: (1) the drawdown of the Anderson reservoir to perform a seismic retrofit of the dam which would include removing Anderson Dam in stages and rebuilding the dam and spillway to meet public safety requirements, (2) decommissioning the hydroelectric facility, (3) implementing conservation measures downstream of the dam on Coyote Creek, and (4) surrendering the hydroelectric project exemption. Construction to retrofit the dam would take approximately seven years to complete, proposed to begin in 2026. The proposal includes various environmental monitoring plans, site restoration activities, and mitigation measures including improvements to Ogier Ponds and enhancements to the fish passage facilities at the Coyote Percolation Dam located downstream and outside of the Anderson Dam Hydroelectric Project on Coyote Creek. After the surrender, Valley Water would continue to maintain Anderson Reservoir and the rebuilt dam under specific operational conditions discussed in the surrender application.

The NEPA Process

The NEPA document issued by the Commission will discuss impacts that could occur as a result of the proposed dam retrofit and surrender under the following general resource areas:

• geology and soils

• water quantity

• water quality

• aquatic resources

• terrestrial resources

• threatened and endangered species

• recreation

• land use

• aesthetic resources

• socioeconomics

• cultural resources

• air quality, noise, and greenhouse gases

• environmental justice

A description of specific potential effects resulting from the proposed surrender is included in our Scoping Document. Your comments will help Commission staff identify and focus on the issues that might have an effect on the human environment and potentially eliminate others from further study and discussion in the NEPA document.

The U.S. Army Corps of Engineers is a cooperating agency in the preparation of the NEPA document.

The NEPA document will present Commission staff's independent analysis of the issues. Staff will prepare a draft NEPA document which will be issued for public comment. The comment period will be specified in the notice of availability of the NEPA document. Commission staff will consider all timely comments received during the comment period on the draft NEPA document and revise the document, as necessary, before issuing a final NEPA document. The draft and final NEPA document will be available in electronic format in the public record through eLibrary. If eSubscribed, you will receive email notification when environmental documents are issued.

Alternatives Under Consideration

As part of our review in the NEPA document, the Commission will consider a range of reasonable alternatives, which include: alternatives that are technically and economically feasible; meet the purpose and need for the proposed action; and meet the goals of the applicant.² Alternatives that do not meet these requirements will be summarized and dismissed from further consideration in the NEPA document. Staff will also consider the no-action alternative. Currently, we are considering one alternative to the proposed action that potentially meets the above criteria: the applicants' proposed action with staff modifications.

² 40 CFR 1508.1(z)

The alternatives we are considering may be expanded based on the comments we receive, provided they meet the required criteria. With this notice, we ask commenters to identify other potential alternatives for consideration.

Additional Information

Additional information about the project is available on the FERC website at www.ferc.gov using the eLibrary link. Click on the eLibrary link, click on “General Search” and enter the docket number in the “Docket Number” field, excluding the last three digits (i.e., P-5737). Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

If you have further questions, you may also contact Jennifer Ambler at jennifer.ambler@ferc.gov or 202-502-8586.

Dated: August 21, 2024.
Debbie-Anne A. Reese,
Acting Secretary.

[FR Doc. 2024-19202 Filed 8-26-24; 8:45 am]

BILLING CODE 6717-01-P